DEPARTMENT OF TRANSPORTATION

Federal Aviation Administration

Drone Advisory Committee

AGENCY: Federal Aviation Administration (FAA), DOT.

ACTION: Notice of Drone Advisory Committee (DAC) establishment.

SUMMARY: The FAA is issuing this notice to advise the public of the establishment of the DAC for 2 years. The Federal Aviation Administration (FAA) is establishing the DAC under agency authority in accordance with the provisions of the Federal Advisory Committee Act (FACA). The DAC is necessary and in the public interest.

The nature and purpose of the DAC is to provide an open venue for FAA and Unmanned Aircraft Systems (UAS) stakeholders to work in partnership to develop a consensus-based set of resolutions for issues and challenges regarding the efficiency and safety of integrating UAS into the National Airspace System and to develop recommendations to address these issues and challenges.

FOR FURTHER INFORMATION CONTACT: Chris Harm at Chris.Harm@faa.gov or 202-267-5401, located at 490 L'Enfant Plaza SW, Suite 7225 Washington, DC 20024.

SUPPLEMENTARY INFORMATION: The Federal advisory committee's meetings will be open to the public and announced in the Federal Register, except as authorized by Section 10(d) of the Federal Advisory Committee Act.

Issued in Washington, DC, on May 25, 2018.
John Wesley Raper,
Manager, Partnership Branch, ANG-A17, NextGen, Management Services, Federal Aviation Administration.

[FR Doc. 2018-11697 Filed 5-25-18; 4:15 pm]

BILLING CODE 4910-13-P